NUCLEAR REGULATORY COMMISSION

Advisory Committee on Reactor Safeguards (ACRS) Subcommittee Meeting on Regulatory Policies and Practices; Revised

A portion of the ACRS Subcommittee meeting on Regulatory Policies and Practices scheduled to be held on Tuesday, July 10, 2007, Room T-2B3, 11545 Rockville Pike, Rockville, Maryland, may be closed to prevent disclosure of information the premature disclosure of which would be likely to significantly frustrate implementation of a proposed agency action pursuant to 5 U.S.C. 552b(c)(9)(B). All other items pertaining to this meeting remain the same as published previously in the Federal Register on Friday, June 22, 2007 (72 FR 34488).

For Further Information Contact: Dr. Hossein P. Nourbakhsh, Designated Federal Official (Telephone: 301-415-5622) between 7:30 a.m. and 4:15 p.m. (ET) or by e-mail hpn@nrc.gov.

Dated: June 27, 2007.
Cayetano Santos,
Branch Chief, ACRS.

[FR Doc. E7-12840 Filed 7-2-07; 8:45 am]

BILLING CODE 7590-01-P